DEPARTMENT OF HEALTH AND HUMAN SERVICES

Agency for Toxic Substances and Disease Registry

[ATSDR-160]

Public Health Assessments Completed

AGENCY: Agency for Toxic Substances and Disease Registry (ATSDR), Department of Health and Human Services (HHS).

ACTION: Notice.

SUMMARY: This notice announces those sites for which ATSDR has completed public health assessments during the period from April through June 2000. This list includes sites that are on or proposed for inclusion on the National Priorities List (NPL), and includes sites for which assessments were prepared in response to requests from the public.

FOR FURTHER INFORMATION CONTACT: Robert C. Williams, P.E., DEE, Assistant Surgeon General, Director, Division of Health Assessment and Consultation, Agency for Toxic Substances and Disease Registry, 1600 Clifton Road, NE., Mailstop E-32, Atlanta, Georgia 30333, telephone (404) 639-0610.

SUPPLEMENTARY INFORMATION: The most recent list of completed public health assessments was published in the Federal Register on June 14, 2000 [65 FR37393]. This announcement is the responsibility of ATSDR under the regulation, Public Health Assessments and Health Effects Studies of Hazardous Substances Releases and Facilities [42 CFR part 90]. This rule sets forth ATSDR's procedures for the conduct of public health assessments under section 104(i) of the Comprehensive Environmental Response, Compensation, and Liability Act (CERCLA), as amended by the Superfund Amendments and Reauthorization Act (SARA) (42 U.S.C. 9604(i)).

Availability

The completed public health assessments and addenda are available for public inspection at the Division of Health Assessment and Consultation, Agency for Toxic Substances and Disease Registry, Building 33, Executive Park Drive, Atlanta, Georgia (not a mailing address), between 8 a.m. and 4:30 p.m., Monday through Friday except legal holidays. The completed public health assessments are also available by mail through the U.S. Department of Commerce, National Technical Information Service (NTIS), 5285 Port Royal Road, Springfield, Virginia 22161, or by telephone at (703) 605-6000. NTIS charges for copies of public health assessments and addenda. The NTIS order numbers are listed in parentheses following the site names.

Public Health Assesssments Completed or Issued

Between April 1 and June 30, 2000, public health assessments were issued for the sites listed below:

NPL Sites

California

Lockheed Propulsion Company (a/k/a Lockheed Martin Propulsion Corporation)—Redlands—(PB20-105429)

Florida

Brown's Dump—Jacksonville—(PB20-106698)

Landia Chemical Company (a/k/a Florida Favorite Fertilizer)—Lakeland—(PB20-106656)

Sanford Gasification Plant—Sanford—(PB20-105873)

Illinois

Bohn Heat (a/k/a Bohn Heat Transfer Facility)—Beardstown—(PB20-105874)

Illinois Beach Park—Zoin—(PB20-106682)

Kansas

Chemical Commodities, Incorporated—Olathe—(PB20-105191)

Louisiana

Highway 71/72 Refinery—Bossier City—(PB20-106662)

Lincoln Creosote—Bossier City—(PB20-106702)

Missouri

Pools Prairie (a/k/a Neosho Wells)—(PB20-105121)

New Hampshire

Messer Street Manufactured Gas Plant—Laconia—(PB20-105136)

New York

Fresh Kills Landfill—Staten Island—(PB20-105347)

Ohio

Rickenbacker Air National Guard Base (USAF) (a/k/a Rickenbacker Air Force Base)—Columbus—(PB20-105875)

Tennessee

Arnold Engineering Development Center (a/k/a Arnold Air Force Base—Arnold Air Force Base Station—(PB20-106686)

Chemet Company—Moscow—(PB20-105981)

Washington

Bertrand Creek Area Properties (a/k/a North Whatcom County Groundwater Contamination)—Lynden—(PB20-105876)

Non NPL Petitioned Sites

Arkansas

Great Lakes Chemical Corporation—El Dorado—(PB20-106657)

Connecticut

Yaworski Landfill (Aliases: Yaworski Dump and Packer Road Landfill)—Canterbury—(PB20-105900)

New Jersey

Hawthorne Municipal Wells—Hawthorne—(PB20-107474)

Dated: September 15, 2000.
Georgi Jones,
Director, Office of Policy and External Affairs, Agency for Toxic Substances and Disease Registry.

[FR Doc. 00-24248 Filed 9-20-00; 8:45 am]

BILLING CODE 4163-70-P